POSTAL SERVICE

39 CFR Part 20

International Mail Manual; Incorporation by Reference

AGENCY: Postal Service™.

ACTION: Final rule.

SUMMARY: The Postal Service announces the issuance of the Mailing Standards of the United States Postal Service, International Mail Manual (IMM®) dated July 1, 2020, and its incorporation by reference in the Code of Federal Regulations.

DATES: This final rule is effective on September 30, 2020. The incorporation by reference of the IMM is approved by the Director of the Federal Register as of September 30, 2020.

FOR FURTHER INFORMATION CONTACT: Dale Kennedy, (202) 268-6592.

SUPPLEMENTARY INFORMATION: The International Mail Manual was issued on July 1, 2020, and was updated with Postal Bulletin revisions through June 18, 2020. It replaced all previous editions. The IMM continues to enable the Postal Service to fulfill its long-standing mission of providing affordable, universal mail service. It continues to: (1) Increase the user's ability to find information; (2) increase the user's confidence that he or she has found the information they need; and (3) reduce the need to consult multiple sources to locate necessary information. The provisions throughout this issue support the standards and mail preparation changes implemented since the version of March 4, 2019. The International Mail Manual is available to the public on the Postal Explorer® internet site at http://pe.usps.com.

List of Subjects in 39 CFR Part 20

Foreign relations; Incorporation by reference.

In view of the considerations discussed above, the Postal Service hereby amends 39 CFR part 20 as follows:

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise § 20.1 to read as follows:

§ 20.1 Incorporation by reference; Mailing Standards of the United States Postal Service, International Mail Manual.

(a) Mailing Standards of the United States Postal Service, International Mail Manual (IMM) is incorporated by reference into this part with the approval of the Director of the Federal Register under 5 U.S.C. 552(a) and 1 CFR part 51.

(1) Purchase. Copies of Mailing Standards of the United States Postal Service, International Mail Manual can be purchased by the public from the Superintendent of Documents, Washington, DC 20402-9375.

(2) Inspection—USPS. Copies of the Mailing Standards of the United States Postal Service, International Mail Manual are available during regular business hours for reference and public inspection at the U.S. Postal Service Library, U.S. Postal Service Library, 475 L'Enfant Plaza West SW, Washington, DC 20260-1641, 202-268-2906. They are also available during regular business hours for public inspection at area and district offices of the Postal Service and at all post offices, classified stations, and classified branches. The Mailing Standards of the United States Postal Service, Domestic Mail Manual is available for examination on the internet at http://pe.usps.gov.

(3) Inspection—NARA. It is for inspection at the National Archives and Records Administration (NARA). For information on the availability of this material at NARA, call 202-741-6030 or go to www.archives.gov/federal-register/cfr/ibr-locations.html.

(b) The Director of the Federal Register approved IMM, updated July 1, 2020, for incorporation by reference as of September 30, 2020.

3. Revise § 20.2 to read as follows:

§ 20.2 Effective date of the International Mail Manual.

The provisions of the International Mail Manual issued July 1, 2020, (incorporated by reference, see § 20.1) are applicable with respect to the international mail services of the Postal Service.

§ 20.3 [Removed and Reserved]

3. Remove and reserve § 20.3.

4. Revise § 20.4 to read as follows:

§ 20.4 Amendments to the International Mail Manual.

(a) The current issue of the IMM is incorporated by reference, see § 20.1.

(b) New issues of the International Mail Manual will be incorporated by reference into this part and will be available at http://pe.usps.gov. The text of amendments to the International Mail Manual will be published in the Federal Register and will be available in the Postal Bulletin, copies of which may be accessed at http://www.usps.com/cpim/ftp/bulletin/pb.htm. Successive issues of the IMM are listed in Table 1 to this section.

Table 1 to § 20.4—International Mail Manual
International Mail Manual | Date of issuance
Issue 1 | November 13, 1981.
Issue 2 | March 1, 1983.
Issue 3 | July 4, 1985.
Issue 4 | September 18, 1986.
Issue 5 | April 21, 1988.
Issue 6 | October 5, 1988.
Issue 7 | July 20, 1989.
Issue 8 | June 28, 1990.
Issue 9 | February 3, 1991.
Issue 10 | June 25, 1992.
Issue 11 | December 24, 1992.
Issue 12 | July 8, 1993.
Issue 13 | February 3, 1994.
Issue 14 | August 4, 1994.
Issue 15 | July 9, 1995.
Issue 16 | January 4, 1996.
Issue 17 | September 12, 1996.
Issue 18 | June 9, 1997.
Issue 19 | October 9, 1997.
Issue 20 | July 2, 1998.
Issue 21 | May 3, 1999.
Issue 22 | January 1, 2000.
Issue 23 | July 1, 2000.
Issue 24 | January 1, 2001.
Issue 25 | July 1, 2001.
Issue 26 | January 1, 2002.
Issue 27 | June 30, 2002.
Issue 28 | January 1, 2003.
Issue 29 | July 1, 2003.
Issue 30 | August 1, 2004.
Issue 31 | May 31, 2005.
Issue 35 | May 12, 2008.
Issue 36 | May 11, 2009.
IMM | April 17, 2011.
IMM | June 24, 2012.
IMM | January 26, 2015.
IMM | July 11, 2016.
IMM | January 22, 2017.
IMM | March 5, 2018.
IMM | March 4, 2019.
IMM | July 1, 2020.

Joshua J. Hofer,
Attorney, Federal Compliance.

[FR Doc. 2020-19314 Filed 9-29-20; 8:45 am]

BILLING CODE 7710-12-P